DEPARTMENT OF COMMERCE

International Trade Administration

[A-475-818]

Notice of Amended Final Results of Antidumping Duty Administrative Review: Certain Pasta From Italy

AGENCY: Import Administration, International Trade Administration, Department of Commerce.

ACTION: Notice of Amendment to final results of antidumping duty administrative review in accordance with decision upon remand: Certain Pasta from Italy.

SUMMARY: We are amending the cash deposit and assessment rates for imports of pasta from Arrighi S.p.A. Industrie Alimentari (Arrighi) and Barilla Alimentare, S.p.A. (Barilla) and the assessment rate for La Molisana Industrie Alimentari, S.p.A. (La Molisana) calculated for the January 19, 1996, through June 30, 1997, administrative review of this order. The cash deposit rate for La Molisana was not affected by the litigation. The revised cash deposit rate for Arrighi is 19.09 percent ad valorem and for Barilla is 45.49 percent ad valorem.

EFFECTIVE DATE: April 24, 2001.

FOR FURTHER INFORMATION CONTACT: James Terpstra, AD/CVD Enforcement, Office VI, Group II, Import Administration, International Trade Administration, U.S. Department of Commerce, 14th Street and Constitution Avenue, N.W., Washington, DC 20230; telephone (202) 482-3965.

The Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (Department's) regulations are to 19 CFR Part 351 (1997).

SUPPLEMENTARY INFORMATION:

Background

On June 26, 2000, the United States Court of International Trade (CIT) remanded to the Department the final results in the January 19, 1996, through June 30, 1997, antidumping duty administrative review of certain pasta from Italy. See World Finer Foods, Inc., et al. v. United States, 886 F. Supp. 23 (CIT 2000) (see also Notice of Final Results and Partial Rescission of Antidumping Duty Administrative Review; Certain Pasta from Italy, 64 FR 6615 (February 10, 1999)). In its remand, the CIT instructed the Department to reconsider the information provided by World Finer Foods, Inc., and determine an appropriate facts available rate for Arrighi. The CIT further instructed the Department to consider information submitted by La Molisana that would identify the name of the importer of record for certain U.S. sales transactions reported by La Molisana and to recalculate the applicable assessment rates for La Molisana. With regard to Barilla, the CIT instructed the Department to determine a margin that, although adverse, bears a “rational relationship” to the current level of dumping in the industry and provide corroboration explaining the probative value of the data used in determining the adverse facts available margin. On September 15, 2000, the Department filed its results of redetermination pursuant to the CIT's order. On November 3, 2000, the CIT affirmed the final revised remand determination in World Finer Foods, Inc., et al. v. United States, 120 F. Supp.2d 1331.

In light of the final and conclusive court decision in this action, we are amending the cash deposit rate for Arrighi from 71.49 percent to 19.09 percent ad valorem and the cash deposit rate for Barilla from 71.49 percent to 45.49 percent ad valorem. In addition, we are amending the assessment rates for merchandise produced by Arrighi and imported by World Finer Foods, Inc., and the merchandise produced by La Molisana and Barilla.

Amended Final Determination

As there is now a final and conclusive court decision in this action, we are amending the final results of the administrative review on certain pasta from Italy covering the period January 19, 1996, through June 30, 1997, pursuant to section 516A(e) of the Act. As a result of this remand redetermination, the recalculated final weighted-average margins are as follows:

Manufacturer/producer | Margin percentage
Arrighi | 10.09
Barilla | 45.49

The cash deposit rates for Arrighi of 19.09% ad valorem and for Barilla of 45.49% ad valorem will be effective upon publication of this notice of amended final results on all shipments of the subject merchandise entered, or withdrawn from warehouse, for consumption on or after the publication date. The cash deposit rate for La Molisana will continue to be based on the margins found to exist in the most recently completed review.

Accordingly, the Department will determine, and the Customs Service will assess, antidumping duties on all entries of subject merchandise from Arrighi, Barilla, and La Molisana during the period January 19, 1996, through June 30, 1997, in accordance with these amended final results. For Barilla, this decision also affects the enjoined entries for the period July 1, 1998, through June 30, 1999. In accordance with 19 CFR 351.212(b), we have calculated exporter/importer-specific assessment rates by aggregating the dumping margins for all U.S. sales to each importer and dividing the amount by the total entered value of the sales to that importer. Where the importer-specific assessment rate is above de miminis, we will instruct Customs to assess antidumping duties on that importer's entries of subject merchandise. We will direct Customs to assess the resulting percentage margins against the entered Customs values for the subject merchandise on each of that importer's entries under the order during the period of review.

These amended final results and notice are in accordance with sections 751(a)(1) of the Act (19 U.S.C. 1675(a)(1)) and 19 CFR 351.221. Effective January 20, 2001, Bernard T. Carreau is fulfilling the duties of the Assistant Secretary for Import Administration.

Dated: April 17, 2001.
Bernard T. Carreau,
Deputy Assistant Secretary, Import Administration.

[FR Doc. 01-10151 Filed 4-23-01; 8:45 am]

BILLING CODE 3510-DS-P